DEPARTMENT OF COMMERCE

International Trade Administration

[C-475-819]

Certain Pasta From Italy: Notice of Extension of Time Limit for Countervailing Duty New Shipper Review

AGENCY: Import Administration, International Trade Administration, Department of Commerce.

SUMMARY: The Department of Commerce is extending the time limit for the preliminary results of the countervailing duty new shipper review on certain pasta from Italy. The period of review is January 1 through December 31, 2002.

EFFECTIVE DATE: August 29, 2003.

FOR FURTHER INFORMATION CONTACT: Daniel J. Alexy, Office of AD/CVD Enforcement I, Import Administration, U.S. Department of Commerce, 14th Street and Constitution Avenue, NW, Washington, DC 20230; telephone (202) 482-1540.

SUPPLEMENTARY INFORMATION:

Background:

On February 27, 2003, the Department of Commerce (“the Department”) initiated a countervailing duty new shipper review for certain pasta from Italy, covering calendar year 2002. See Notice of Initiation of Countervailing Duty New Shipper Review, 68 FR 10446 (March 5, 2003). Corrections to the initiation notice were published in the Federal Register on March 24, 2003 (See 68 FR 14198). The preliminary results are currently due no later than August 26, 2003.

Statutory Time Limits

Section 751(a)(2)(B)(iv) of the Tariff Act of 1930, as amended (the Act), requires the Department to issue the preliminary results within 180 days after the date on which the new shipper review is initiated. However, if the proceeding is extraordinarily complicated, section 751(a)(2)(B)(iv) of the Act allows the Department to extend this deadline to a maximum of 300 days.

Postponement

The Department has determined that additional time is necessary to issue the preliminary results in this new shipper review for the reasons stated in our memorandum from Susan Kuhbach to Jeffrey May, dated August 25, 2003. Therefore, in accordance with section 751 (a)(2)(B)(iv) of the Act, we are postponing the preliminary results of this new shipper review until no later than December 24, 2003.

This notice is published pursuant to section 777(i)(1) of the Act.

Dated: August 25, 2003.
Jeffrey May,
Deputy Assistant Secretary for Import Administration.

[FR Doc. 03-22166 Filed 8-28-03; 8:45 am]

BILLING CODE 3510-DS-S